ENVIRONMENTAL PROTECTION AGENCY

40 CFR Parts 52 and 81

[MN72-7297a; FRL-7251-5]

Approval and Promulgation of Implementation Plans; Minnesota, and Designation of Areas for Air Quality Planning Purposes; Minnesota

AGENCY: Environmental Protection Agency (EPA).

ACTION: Direct final rule.

SUMMARY: On June 20, 2002, the Minnesota Pollution Control Agency (MPCA) submitted to EPA a redesignation request and maintenance plan for the Saint Paul, Ramsey County particulate matter primary nonattainment area. In its submittal, the State requested that we redesignate Ramsey County to attainment of the National Ambient Air Quality Standards (NAAQS) for particulate matter with an aerodynamic diameter less than or equal to a nominal 10 micrometers (PM) and that we approve the maintenance plan for the area into the Minnesota PM State Implementation Plan (SIP). In this action EPA is approving the state's request, because it meets all of the Clean Air Act (Act) requirements for redesignation.

If EPA receives adverse written comments on this action, we will publish a timely withdrawal of the direct final rule in the Federal Register informing the public that the rule will not take effect.

DATES: This “direct final” rule is effective September 24, 2002, unless EPA receives written adverse or critical comments by August 26, 2002. If adverse comment is received, EPA will publish a timely withdrawal of the direct final rule in the Federal Register and inform the public that the rule will not take effect.

ADDRESSES: Send written comments to Carlton T. Nash, Chief, Regulation Development Section, Air Programs Branch (AR-18J), United Environmental Protection Agency, 77 West Jackson Boulevard, Chicago, Illinois 60604. (We recommend that you telephone Christos Panos, at (312) 353-8328, before visiting the Region 5 Office.)

A copy of this redesignation request is available for inspection at the Office of Air and Radiation (OAR) Docket and Information Center (Air Docket 6102), United States Environmental Protection Agency, Ariel Rios Building, 1200 Pennsylvania Avenue, NW., Washington, DC 20460, (202) 260-7548.

FOR FURTHER INFORMATION CONTACT: Christos Panos, Environmental Engineer, Regulation Development Section(AR-18J), Air Programs Branch, Air and Radiation Division, United States Environmental Protection Agency, Region 5, 77 West Jackson Boulevard, Chicago, Illinois 60604, (312) 353-8328.

SUPPLEMENTARY INFORMATION: Throughout this document wherever “we,” “us,” or “our” are used we mean EPA. This SUPPLEMENTARY INFORMATION section is organized as follows:

A. What action is EPA taking?

B. Why was this SIP revision submitted?

C. Why can we approve this request?

D. What requirements must be met for approval of a redesignation, and how did the state meet them?

A. What Action Is EPA Taking?

We are approving the State of Minnesota's request to redesignate the Ramsey County PM nonattainment area to attainment of the PM NAAQS. We are also approving the maintenance plan for this area into the Minnesota PM SIP.

B. Why Was This SIP Revision Submitted?

MPCA believes that the Ramsey County PM nonattainment area is eligible for redesignation because we have approved the Saint Paul PM SIP and monitors in the nonattainment area have not recorded any exceedances of the PM NAAQS since May 1995. The redesignation request submittal consists primarily of a maintenance plan and air quality monitoring data. The submittal contains text describing how the statutory requirements were met.

C. Why Can We Approve This Request?

Consistent with the Act's redesignation requirements of section 107(d)(3)(E), EPA developed procedures for redesignation of nonattainment areas that are in an EPA September 4, 1992 memorandum titled, “Procedures for Processing Requests to Redesignate Areas to Attainment.” This EPA guidance document contains a number of requirements that a state must meet before it can request a change in designation for a federally designated nonattainment area. That memorandum and EPA's June 27, 2002 Technical Support Document set forth the rationale in support of the redesignation of the Ramsey County PM nonattainment area to an attainment status.

D. What Requirements Must Be Met for Approval of a Redesignation and How Did the State Meet Them?

1. The State Must Show That the Area Is Attaining the Applicable NAAQS

There are two components involved in making this demonstration: (1) Ambient air quality monitoring representative of the area of highest concentration must show no more than one exceedance annually; and (2) EPA approved air quality modeling must show that the area in question meets the applicable standard. The 24-hour primary PM standard is 150 micrograms per cubic meter (μg/m³), with no more than one expected exceedance per year. The annual primary PM standard is 50 μg/m³ expected annual arithmetic mean. The secondary PM standards are identical to the primary standards.

MPCA submitted ambient air monitoring data for the years 1998-2000 and the period of January-September 2001, from two PM monitoring sites in the nonattainment area located at 1450 Red Rock Road and 1200 Warner Road. This data has been quality assured and is available for review in the Aerometric Information Retrieval System (AIRS), monitor numbers 271230866 and 271230870 respectively. No monitored exceedances of the PM NAAQS have occurred in Ramsey County since May 20, 1995.

MPCA initially submitted the modeling demonstration to EPA in 1991, 1992, and 1993. MPCA performed the modeling in accordance with the EPA document titled “Guideline on Air Quality Models, (Revised), including Supplement A,” 1987. The Industrial Source Complex—Short Term (ISCST) model was used for the analysis. The demonstration explicitly modeled maximum allowable emissions for all industrial sources, included an estimate of actual emissions for the diffuse area sources such as public roadways, and added in a concentration representative of local background sources. The analysis showed that, with all control measures in operation, modeled concentrations combined with background PM concentrations did not violate the NAAQS. A more detailed discussion of the modeling demonstration can be found in the June 25, 1993 proposed rulemaking on the Saint Paul PM SIP revision (58 FR 34297). We concluded on February 15, 1994 (59 FR 7218) that the air dispersion modeling met the appropriate requirements of the Act.

Due to exceedances recorded at the Red Rock Road monitor between 1992 and 1995, MPCA recognized that the PM SIP submitted in 1992 no longer sufficiently characterized the area. The State determined that the exceedances were attributable to shifts and increases in local source activity (such as traffic newly occurring on unpaved surfaces) which had occurred since development of the prior plan, and not to any deficiencies in the prior plan. The State worked with EPA and the companies involved to address the new violations with sufficient additional controls to support an updated modeled attainment demonstration. MPCA submitted SIP revisions to EPA on February 9, 1996 and July 22, 1998, that included additional control measures and updated modeling to address these exceedances.

The revised modeling incorporated all the actual Red Rock Road facilities' stack and emissions data. It also updated the modeling of other nearby PM sources within 2 to 4 kilometers of the Red Rock Road monitor. The modeling analysis demonstrated attainment and maintenance of the PM NAAQS in the Red Rock Road area. Additional information can be found in our August 13, 1999 approval of the Saint Paul PM SIP (62 FR 39120).

2. The SIP for the Area Must Be Fully Approved Under Section 110(k) of the Act and Must Satisfy All Requirements That Apply to the Area

MPCA submitted PM SIP revisions in 1991, 1992 and 1993 to fulfill the requirements of Section 110 and Part D of the Act. The enforceable elements of the State's submittals were administrative orders for nine facilities in the Saint Paul area. We approved Minnesota's submittals as satisfying the applicable requirements for the Ramsey County PM nonattainment area on February 15, 1994 (59 FR 7218). In addition, MPCA submitted supplemental SIP revisions for the Red Rock Road portion of the nonattainment area in 1996 and 1998. These submittals contained additional emission limits and/or control measures for certain facilities located along Red Rock Road, and a revised modeled attainment demonstration for the Red Rock Road area. Changes to emissions that occurred at some of the facilities, including sources in the 2-4 kilometer range of the Red Rock Road area, were included in the revised modeling demonstration. We approved the Red Rock Road supplementary PM SIP on August 13, 1999 (64 FR 44131).

3. EPA Has Determined That the Improvement in Air Quality Is Due to Permanent and Enforceable Reductions in Emissions

Air quality improvement in the Ramsey County PM nonattainment area is attributed to PM emission limits and operating restrictions imposed on the facilities that contributed to the nonattainment status. These limits have been incorporated into the state PM SIP, through the use of non-expiring Administrative Orders or through non-expiring Title I conditions found in Title V or federally enforceable State permits that contain the requirements of an original Administrative Order, and are therefore permanent and enforceable. The PM dispersion modeling, conducted as part of the Saint Paul PM SIP revisions, predicts that the control measures included in the SIP are sufficient to provide for attainment and maintenance of the PM NAAQS.

4. The State Has Met All Applicable Requirements Under Section 110 and Part D of the Act That Were Applicable Prior to Submittal of the Complete Redesignation Request

Section 110(a)(2) of the Act contains the general requirements for nonattainment plans. Part D contains the general requirements applicable to all areas that are designated nonattainment based on a violation of the NAAQS. These requirements are satisfied by EPA's February 15, 1994 and August 13, 1999 approvals of the nonattainment plans that Minnesota submitted for the control of PM emissions in the Ramsey County area.

A Prevention of Significant Deterioration (PSD) program will replace the requirements of the part D new source review program after redesignation of the area. To ensure that the PSD program will become fully effective immediately upon redesignation, either EPA must delegate the federal PSD program to the state or the state must make any needed modifications to its rules to have the approved PSD program apply to the affected area upon redesignation. We delegated the PSD program to the State of Minnesota on March 26, 1979, and amended the delegation on October 15, 1980 and November 3, 1988.

5. EPA Has Fully Approved a Maintenance Plan, Including a Contingency Plan, for the Area Under Section 175A of the Act

Section 107(d)(3)(E) of the Act states that, for an area to be redesignated, EPA must fully approve a maintenance plan that meets the requirements of section 175A. Section 175A(a) of the Act requires states to submit a SIP revision that provides for the maintenance of the NAAQS in the area for at least 10 years after approval of the redesignation. The basic components needed to ensure proper maintenance of the NAAQS are: attainment inventory, maintenance demonstration, verification of continued attainment, ambient air monitoring network, and a contingency plan. Further, section 175A(b) requires states to submit a SIP revision 8 years after redesignation that provides for the maintenance of the NAAQS in the area for 10 years after the expiration of the first 10-year period required by section 175A(a). EPA is approving the maintenance plan in today's action as discussed below.

a. Attainment Inventory. The air dispersion modeling included in the state's SIP submittals contains the emission inventory of PM sources in the Ramsey County nonattainment area.

b. Maintenance Demonstration and Verification of Continued Attainment. The modeling analyses submitted by MPCA demonstrate attainment and maintenance of the PM NAAQS. The PM emitting sources involved in the Ramsey County PM redesignation are meeting the PM maximum allowable emission limits identified in the modeling. Protection of the NAAQS is further assured because actual PM emissions are generally less than the allowable PM emissions considered in the modeling.

MPCA will monitor growth in the area mainly through administration of the MPCA's permitting program, keeping track of new facility permit applications and permit amendment requests and ensuring compliance with the MPCA's permitting rules. The State permitting process requires any PM source potentially emitting 25 tons a year to demonstrate, through dispersion modeling, that attainment of the NAAQS is met before the source may obtain a permit.

c. Monitoring Network. Once an area has been redesignated, the State must continue to operate an appropriate air quality monitoring network, in accordance with 40 CFR part 58, to verify the attainment status of the area. The maintenance plan should contain provisions for continued operation of air quality monitors that will provide such verification. In its submittal, the State commits to continue to operate and maintain the network of PM monitoring stations and to report the data in AIRS to demonstrate ongoing compliance with the PM NAAQS.

d. Contingency Plan. Section 175A of the Act requires that the maintenance plan include contingency provisions to promptly correct any violation of the NAAQS that occurs after redesignation of the area. MPCA included contingency measures for the Ramsey County PM nonattainment area in the Administrative Orders contained in its August 31, 1992, submittal. These measures are eligible to be used as the maintenance plan contingency measures, because the State was able to attain the PM NAAQS with the limitations and control measures already contained in the SIP approved by EPA in 1994 and the additional measures approved by EPA into the SIP in 1999.

Final Action

We have evaluated the state's submittal and have determined that it meets the applicable requirements of the Act, EPA regulations, and EPA policy. Therefore, we are approving the State of Minnesota's request to redesignate the Saint Paul, Ramsey County PM nonattainment area to attainment of the PM NAAQS. We are also approving the maintenance plan for the Ramsey County area into the Minnesota PM SIP.

The EPA is publishing this action without prior proposal because we view this as a noncontroversial amendment and anticipate no adverse comments. However, in the proposed rules section of this Federal Register publication, we are publishing a separate document that will serve as the proposal to approve the state plan if relevant adverse comments are filed. This rule will be effective September 24, 2002 without further notice unless we receive relevant adverse written comments by August 26, 2002. If we receive such comments, we will withdraw this action before the effective date by publishing a subsequent document that will withdraw the final action. We will then address all public comments received in a subsequent final rule based on the proposed action. The EPA will not institute a second comment period. Any parties interested in commenting on this action should do so at this time. If we do not receive any comments, this action will be effective September 24, 2002.

Administrative Requirements

Under Executive Order 12866, “Regulatory Planning and Review” (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate nor does it significantly or uniquely affect small governments, as described in the Unfunded Mandates Reform Act of 1995 (Public Law 104-4).

This rule also does not have tribal implications because it will not have a substantial direct effect on one or more Indian tribes, on the relationship between the federal government and Indian tribes, or on the distribution of power and responsibilities between the federal government and Indian tribes, as specified by Executive Order 13175, “Consultation and Coordination with Indian Tribal Governments” (65 FR 67249, November 9, 2000). This action also does not have federalism implications because it will not have substantial direct effects on the states, on the relationship between the national government and the states, or on the distribution of power and responsibilities among the various levels of government, as specified in Executive Order 13132, “Federalism” (64 FR 43255, August 10, 1999). This action merely approves a state rule implementing a federal standard, and does not alter the relationship or the distribution of power and responsibilities established in the Clean Air Act. This rule also is not subject to Executive Order 13045 “Protection of Children from Environmental Health Risks and Safety Risks” (62 FR 19885, April 23, 1997), because it is not a significant regulatory action under Executive Order 12866.

Section 12(d) of the National Technology Transfer and Advancement Act of 1995 (NTTA), 15 U.S.C. 272, requires federal agencies to use technical standards that are developed or adopted by voluntary consensus to carry out policy objectives, so long as such standards are not inconsistent with applicable law or otherwise impracticable. In reviewing SIP submissions, EPA's role is to approve state choices, provided that they meet the criteria of the Act. Absent a prior existing requirement for the state to use voluntary consensus standards, EPA has no authority to disapprove a SIP submission for failure to use such standards, and it would thus be inconsistent with applicable law for EPA to use voluntary consensus standards in place of a SIP submission that otherwise satisfies the provisions of the Act. Therefore, the requirements of section 12(d) of the NTTA do not apply.

As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order, and has determined that the rule's requirements do not constitute a taking. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 24, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Intergovernmental relations, Particulate matter, Reporting and recordkeeping requirements.

40 CFR Part 81

Environmental protection, Air pollution control, National parks, Wilderness areas.

Authority: 42 U.S.C. 7401 et seq.

Dated: July 12, 2002.
Bharat Mathur,
Acting Regional Administrator, Region 5.

Title 40 of the Code of Federal Regulations, chapter I, part 52, is amended as follows:

PART 52—APPROVAL AND PROMULGATION OF IMPLEMENTATION PLANS

1. The authority citation for part 52 continues to read as follows:

Authority: 42 U.S.C. 7401-7671q.

2. Section 52.1230 is amended by adding paragraph (c) to read as follows:

§ 52.1230 Control strategy and rules: Particulates.

* * * * *

(c) Approval—On June 20, 2002, the State of Minnesota submitted a request to redesignate the Saint Paul, Ramsey County particulate matter nonattainment area to attainment of the NAAQS for particulate matter with an aerodynamic diameter less than or equal to a nominal 10 micrometers (PM). In its submittal, the State also requested that EPA approve the maintenance plan for the area into the Minnesota PM SIP. The redesignation request and maintenance plan meet the redesignation requirements of the Clean Air Act.

PART 81—DESIGNATION OF AREAS FOR AIR QUALITY PLANNING PURPOSES

1. The authority citation for part 81 continues to read as follows:

Authority: 42 U.S.C. 7401-7671q.

2. Section 81.324 is amended by revising the entire entry for Ramsey County under the “Minneapolis-Saint Paul Area” in the table entitled “Minnesota—PM-10” to read as follows:

§ 81.324 Minnesota.

Minnesota—PM-10
Designated area | Designation: Date ¹ | Designation: Type | Classification: Date ¹ | Classification: Type
* * * * * * *
Ramsey County | September 24, 2002 | Attainment
* * * * * * *

* * * * *

[FR Doc. 02-18866 Filed 7-25-02; 8:45 am]

BILLING CODE 6560-50-P